DEPARTMENT OF AGRICULTURE

Commodity Credit Corporation

Farmer-Stock Peanuts Available for Sale in Online Auction

AGENCY: Commodity Credit Corporation, USDA.

ACTION: Notice.

SUMMARY: The Commodity Credit Corporation (CCC) is announcing that the inventoried farmer-stock peanuts will be available for sale as unrestricted use on November 29, 2006 on the Internet at www.theseam.com.

EFFECTIVE DATE: November 27, 2006.

FOR FURTHER INFORMATION CONTACT: Jose Gonzalez, Inventory Program Manager, Warehouse and Inventory Division, Farm Service Agency, USDA, STOP 0553, 1400 Independence Avenue, SW., Washington, DC 20250-0553. Telephone: (202) 690-2534. E-mail: jose.gonzalez@wdc.usda.gov. Persons with disabilities who require alternative means for communication (Braille, large print, audiotape, etc.) should contact the USDA Target Center at (202) 720-2600 (voice and TDD).

SUPPLEMENTARY INFORMATION: CCC acquires farmer-stock peanuts through the forfeiture of marketing assistance loans obtained in accordance with the Farm Security and Rural Investment Act of 2002. CCC's general sales policy is to maximize the returns to the Corporation. The authority for selling CCC-owned peanuts is the CCC Charter Act and section 165 of the Federal Agriculture Improvement and Reform Act of 1996. The regulations at 7 CFR, part 1402, contain CCC policy for certain commodities available for sale by CCC.

CCC has contracted with The Seam, LLC, of Memphis, Tennessee to provide online marketing services to sell CCC-owned peanuts on the Internet. CCC will entertain offers from prospective buyers for the purchase of CCC-owned peanuts that are included in the inventory listed on The Seam's web site.

CCC owns 41,925 tons of farmer-stock peanuts. The inventory is composed of the following: 24,329 tons of Runner-type; 10,546 tons of Spanish-type; 4,836 tons of Virginia-type; and 2,214 tons of Valencia-type peanuts. The peanuts will be made available in an auction sale format in lieu of individual negotiated sales. All CCC inventoried peanuts will be available for sale as unrestricted use at www.theseam.com on November 29, 2006, from 10 a.m. to 12 p.m. Central Time (CT). This inventory will be made available for advance review only, from 9 a.m. to 4 p.m. CT, on November 27 and November 28, 2006. On November 29, 2006, an additional preview period will be provided from 9 a.m. to 10 a.m. CT. Any unsold CCC peanut inventory may be placed on The Seam's website at anytime following November 29, 2006, without prior notification to the public. Interested parties are encouraged to check The Seam's website on a regular basis for inventory that may be made available for sale.

To participate in the online peanut sales, The Seam requires users to enter into a participation agreement. There are no commission charges to place bids online; however, successful bidders are charged a commission fee of $0.75 per ton for completed sales.

Additional information on The Seam is available by contacting Kevin Brinkley, by telephone at (901) 374-0374, or by e-mail at kevin.brinkley@theseam.com or Charles Garner at (478) 988-1125, or by e-mail at charles.garner@theseam.com

Any questions about this notice may be directed to Jose Gonzalez by calling (202) 690-2534 or e-mail jose.gonzalez@wdc.usda.gov.

Signed at Washington, DC, November 17, 2006.
Glen L. Keppy,
Acting Executive Vice President Commodity Credit Corporation.

[FR Doc. E6-19974 Filed 11-24-06; 8:45 am]

BILLING CODE 3410-05-P